DEPARTMENT OF LABOR

Employment and Training Administration

[TA-W-59,436]

Jacquard, LLC, Burlington House Division, Cliffside, NC; Notice of Revised Determination on Reconsideration

On July 20, 2006, the Department issued an Affirmative Determination Regarding Application on Reconsideration applicable to workers and former workers of the subject firm. The notice was published in the Federal Register on July 31, 2006 (71 FR 43214).

The initial investigation resulted in a negative determination signed on June 13, 2006 based on the finding that the subject firm did not separate or threaten to separate a significant number or proportion of workers as required by Section 222 of the Trade Act of 1974. Significant number or proportion of the workers in a firm or appropriate subdivision thereof, means that at least three workers with a workforce of fewer than 50 workers or 5 percent of the workers with a workforce of 50 or more. The denial notice was published in the Federal Register on July 14, 2006 (71 FR 40158).

In the request for reconsideration, the petitioner provided additional information regarding the subject firm's employment numbers and requested an investigation relating to the fact that a significant number or proportion of workers at the subject firm are threatened to become separated from employment.

A review of the additional information determined that the workers of the subject firm may be eligible for Trade Adjustment Assistance on the basis of an employment decline that took place during the period relevant to the investigation and threats of further separations in the coming months; furthermore, sales and production decreased during the relevant period.

The Department conducted a survey of subject firm's major declining customers, which revealed customers increased their reliance on jacquard fabric during the relevant period. Additionally, the customers' declines in subject firm purchases coincided with the subject firm's sales decline.

In accordance with Section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

The investigation further revealed that the workers of the subject firm were certified eligible to apply for trade adjustment assistance as adversely affected secondary workers as suppliers of jacquard fabric to a trade certified customer, under petition number TA-W-54,813, which expired on May 21, 2006.

Conclusion

After careful review of the facts obtained in the investigation, I determine that increases of imports of articles like or directly competitive with jacquard fabric produced at Jacquard, LLC, Burlington House Division, Cliffside, North Carolina contributed importantly to the total or partial separation of workers and to the decline in sales or production at that firm or subdivision. In accordance with the provisions of the Act, I make the following certification:

All workers of Jacquard, LLC, Burlington House Division, Cliffside, North Carolina, who became totally or partially separated from employment on or after May 22, 2006 through two years from the date of this certification, are eligible to apply for adjustment assistance under Section 223 of the Trade Act of 1974, and are eligible to apply for alternative trade adjustment assistance under Section 246 of the Trade Act of 1974.

Signed at Washington, DC, this 29th day of August 2006.
Elliott S. Kushner,
Certifying Officer, Division of Trade Adjustment Assistance.

[FR Doc. E6-14592 Filed 9-1-06; 8:45 am]

BILLING CODE 4510-30-P